DEPARTMENT OF LABOR

Employment and Training Administration

[TA-W-81,047]

Era Systems, LLC, Formerly Era Systems Corporation, a Subsidiary of Systems Research and Applications Corporation, Syracuse, NY; Notice of Affirmative Determination Regarding Application for Reconsideration

By application dated February 2, 2012, a worker requested administrative reconsideration of the negative determination regarding workers' eligibility to apply for Trade Adjustment Assistance (TAA) applicable to workers and former workers of Era Systems, LLC, formerly Era Systems Corporation, a subsidiary of Systems Research and Applications Corporation, Syracuse, New York (hereafter referred to as “Era Systems, LLC” or “the subject firm”). The determination was issued on January 13, 2012 and the Department's Notice of determination will soon be published in the Federal Register.

The initial investigation resulted in a negative determination based on the findings that imports of services like or directly competitive with the services supplied by the firm have not increased; there has not been a shift to a foreign country of services like or directly competitive with the research and development services supplied by the firm; and there has not been an acquisition from a foreign country of services like or directly competitive with the research and development services supplied by the firm. The investigation also revealed that Era Systems, LLC is not a Supplier or Downstream Producer to a firm that employed a group of workers who received a certification of eligibility under Section 222(a) of the Act, 19 U.S.C. 2272(a).

In the request for reconsideration, the petitioner supplied new information regarding a possible shift to/acquisition from a foreign country by the subject firm in the supply of services.

The Department of Labor has carefully reviewed the request for reconsideration and the existing record, and has determined that the Department will conduct further investigation to determine if the workers meet the eligibility requirements to apply for TAA.

Conclusion

After careful review of the application, I conclude that the claim is of sufficient weight to justify reconsideration of the U.S. Department of Labor's prior decision. The application is, therefore, granted.

Signed at Washington, DC, this 16th day of February, 2012.
Del Min Amy Chen,
Certifying Officer, Office of Trade Adjustment Assistance.

[FR Doc. 2012-4581 Filed 2-27-12; 8:45 am]

BILLING CODE 4510-FN-P